ENVIRONMENTAL PROTECTION AGENCY

[ER-FRL-8996-2]

Environmental Impacts Statements; Notice of Availability

Responsible Agency: Office of Federal Activities, General Information (202) 564-1399 or http://www.epa.gov/compliance/nepa/.

Weekly receipt of Environmental Impact Statements

Filed 03/21/2011 through 03/25/2011

Pursuant to 40 CFR 1506.9.

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110089, Draft EIS, HUD, CA, West Coast Recycling Group Metal Recycling Facility Project, Proposal to Develop and Operate a Scrap Metal Shredding and Recycling Facility at the Port of West Sacramento, Yolo County, CA, Comment Period Ends: 05/16/2011, Contact: David W. Tilley 916-617-4645.

EIS No. 20110090, Draft EIS, USFS, MN, Federal Hardrock Mineral Prospecting Permits Project, To Conduct Mineral Exploration Drilling and Geophysical Activities on the Superior National Forest, Cook, Lake, St. Louis and Koochiching Counties, MIN, Comment Period Ends: 05/16/2011, Contact: Loretta Cartner 218-626-4382.

EIS No. 20110091, Final EIS, HUD, WA,Sunset Area Community Planned Action, Proposal to Redevelopment of the Sunset Terrace Public Housing Community and Associated Neighborhood Growth and Revitalization, City of Renton, WA, Review Period Ends: 05/02/2011, Contact: Erika Conkling 425-430-6578.

EIS No. 20110092, Draft EIS, TVA, 00,Natural Resource Plan, To Determine How TVA Will Manage Its Natural Resource Over the Next 20 Years, Implementation, AL, GA, KY, MS, NC, TN and VA, Comment Period Ends: 05/16/2011, Contact: Charles P. Nicholson 864-632-3582.

EIS No. 20110093, Final EIS, NOAA, 00,Atlantic Sea Scallop Fishery Management Plan, Amendment 15, Implementation of the Annual Catch Limits (ACLs) and Accountability Measures (AMs) to Prevent Overfishing, Gulf of Maine, Georges Bank, Review Period Ends: 05/02/2011, Contact:Patricia A. Kurkul 978-281-9250.

EIS No. 20110094, Draft EIS, USFS, CA,Kirkwood Meadows Power Line Reliability Project, Proposal to Construct and Operate 34.5 kilovolt (kV) Power Line, Eldorado National Forest, Amador, Eldorado, and Alpine Counties, CA, Comment Period Ends: 05/31/2011, Contact: Susan A. Rodman 530-621-5298.

EIS No. 20110095, Draft EIS, USACE, MA,South Coast Rail Project, To Establish Commuter Passenger Transit Service between Boston and the Cities of New Bedford and Fall River, Bristol, Plymouth, Norfolk and Suffolk Counties, MA, Comment Period Ends: 05/27/2011, Contact: Alan Anacheka-Nasemann 978-318-8214.

EIS No. 20110096, Final EIS, STB, AK,Port MacKenzie Rail Line Extension Construction and Operation, Alaska Railroad Corporation, Port MacKenzie, AK, Review Period Ends: 05/02/2011, Contact: Dave Navecky 202-245-0294.

EIS No. 20110097, Final EIS, FRA, NV,DesertXpress High-Speed Passenger Train Project, Proposes to Construct and Operate High-Speed Passenger Train between Victorville, California and Las Vegas, Nevada, Review Period Ends: 05/02/2011, Contact: Wendy Messenger 202-493-6396.

Amended Notices

EIS No. 20100076, Final EIS, FRBSF, WA,WITHDRAWN—Federal Reserve Bank of San Francisco, Proposes to Sell the Property at 1015 Second Avenue that is Eligible for Listing on the National Register of Historic Places, located in Seattle, WA, Review Period Ends: 04/19/2010, Contact:Robert Kellar 415-974-2655. Revision to FR Notice Published 03/19/2010: Officially Withdrawn By the Preparing Agency.

Dated: March 29, 2011.
Robert W. Hargrove,
Director, NEPA Compliance Division, Office of Federal Activities.

[FR Doc. 2011-7791 Filed 3-31-11; 8:45 am]

BILLING CODE 6560-50-P